DEPARTMENT OF COMMERCE

National Oceanic and Atmospheric Administration

Notice of Availability of a Draft Restoration Plan and Environmental Assessment for the Oil Spill at Pepco's Chalk Point Generating Facility, Request for Comments

AGENCY: National Oceanic and Atmospheric Administration (NOAA), Commerce.

SUMMARY: The Natural Resource Trustee agencies (Trustees) have written a draft Restoration Plan and Environmental Assessment (Draft RP/EA) that describes alternatives for restoring natural resource injuries and compensating for recreational losses resulting from the April 7, 2000 oil spill at the Potomac Electric Power Company (Pepco) generating facility. This plan was developed cooperatively among the Trustees and the responsible parties, Pepco and ST Services (respectively, the owner and operator of the pipeline) pursuant to the Natural Resource Damage Assessment Regulations, 15 CFR Part 990. See specifically 15 CFR 990.54 and 990.55. The purpose of this notice is to inform the public of the availability of the Draft RP/EA and the opportunity to submit written comments on the proposed restoration alternatives.

DATES: Comments on the Draft RP/EA must be submitted in writing on or before July 8, 2002.

ADDRESSES: Copies of the Draft RP/EA are available at: (1) Lighthouse Point Center, 30383 Three Notch Road, Charlotte Hall, MD (301) 290-0946, 1-800-685-1266, fax (301) 290-0943, Mon.-Fri. 9 am to 5 pm; (2) Information Resource Center, MD Department of Natural Resources, 580 Taylor Avenue, B-3, Annapolis, MD 21401, (410) 260-8830, fax (410) 260-8951, Mon.-Fri. 8 am to 4 pm, and (3) www.darp.noaa.gov/neregion/chalkpt.htm.

Written comments on the draft RP/EA should be submitted to: Jim Hoff, National Oceanic and Atmospheric Administration, Damage Assessment Center, 1305 East-West Highway, Bldg. 4 Rm. 10218, Silver Spring, Maryland 22044. Alternatively, comments may be submitted electronically to the following E-mail address: James.Hoff@NOAA.GOV. All comments received, including names and addresses, will become part of the public record.

FOR FURTHER INFORMATION CONTACT: Jim Hoff, National Oceanic and Atmospheric Administration, Damage Assessment Center, 1305 East-West Highway, Bldg. 4 Rm. 10218, Silver Spring, Maryland 22044.

SUPPLEMENTARY INFORMATION:

Background

On April 7, 2000, a pipeline ruptured at Pepco's Chalk Point generating facility near Benedict, Maryland, spilling roughly 126,000 gallons of oil into Swanson Creek and the Patuxent River. About 40 miles of environmentally sensitive downstream creeks and shorelines along the Patuxent River were oiled.

Four government agencies—the National Oceanic and Atmospheric Administration, U.S. Fish and Wildlife Service, Maryland Department of Natural Resources, and Maryland Department of Environment—are responsible for restoring natural resources injured by the spill. These agencies act as Trustees on the public's behalf to conduct a natural resource damage assessment, a process for determining the nature and extent of injuries to natural resources and the restoration actions needed to reverse these losses (Oil Pollution Act, 33 U.S.C. 2706(b)).

The Trustees have reviewed the results of numerous studies and consulted with a wide variety of experts in relevant scientific and technical disciplines to determine potential injuries resulting from the spill. Based on this work, the Trustees have estimated losses to: wetlands, fish and shellfish, benthic communities, birds, terrapins and recreational uses.

The Trustees considered numerous restoration alternatives to compensate the public for spill-related injuries and restore similar types of resources, and the services provided by the resources, that were injured by the oil spill (15 CFR 990.54 and 990.55). The Preferred Alternatives include:

(1) Creating tidal marsh and enhancing shoreline beach to address injury to wetlands, beach shoreline, and diamondback terrapins. Trustees propose to create five to six acres of intertidal marsh wetland adjacent to Washington Creek, a tributary of the Patuxent River, located south of Chalk Point. This wetland would be similar to those impacted by the spill and provide habitat for juvenile fish, shellfish, birds, and mammals; improve water quality by filtering sediments and other pollutants from the water column; and provide storm surge and flood protection. This project also includes creating roughly one acre of beach habitat to benefit diamondback terrapins and other organisms.

(2) Acquiring and restoring ruddy duck nesting habitat to address injury to ruddy ducks. Trustees propose to restore ruddy duck nesting habitat and acquire perpetual protective easements in areas of the Prairie Pothole Region of the Midwest. Ruddy ducks breed in wetlands located in the Midwest and southern Canada and migrate to the Chesapeake Bay to spend the winter. Restoration and protection of their nesting habitats would enhance ruddy duck populations in the vicinity of the spill.

(3) Creating an oyster reef sanctuary to address injuries to fish, shellfish, benthic communities, and birds and waterfowl. Trustees propose to create about five acres of oyster reef sanctuary in the Patuxent River to address injuries to fish, shellfish, non-ruddy duck birds, and benthic communities. The reef would enhance benthic communities, increase aquatic food for fish, birds, and waterfowl, and improve water quality by filtering out sediments and pollutants from the water column.

(4) Addressing impacts to recreational opportunities. Trustees propose the following alternatives to address the estimated 125,000 river trips that were affected by the spill: (a) Creating two canoe/kayak paddle-in campsites on the Patuxent River, one north of Golden Beach and one at Milltown Landing; (b) establishing a disabled-accessible kayak/canoe launch at Greenwell State Park; (c) improving recreational opportunities at Maxwell Hall Natural Resource Management Area; (d) rebuilding the King's Landing boardwalk and providing canoes for a river education program; and (e) building a fishing pier at Cedar Haven Park.

Administrative Record

Pursuant to the Natural Resource Damage Assessment regulations, the Trustees have developed an Administrative Record to support their restoration planning decisions and inform the public of the basis of their decisions (15 CFR 990.45). Additional information and documents, including public comments received on the Draft RP/EA, the Final RP/EA, and other related restoration planning documents, will also become a part of the Administrative Record, and will be submitted to a public repository upon their completion.

The documents comprising the public record (Administrative Record) can be viewed at the following locations: (1) Lighthouse Point Center, 30383 Three Notch Road, Charlotte Hall, MD (301) 290-0946, 1-800-685-1266, fax (301) 290-0943, Mon.-Fri. 9 am to 5 pm; (2) Information Resource Center, MD Dept. of Natural Resources, 580 Taylor Avenue, B-3, Annapolis, MD 21401, (410) 260-8830, fax (410) 260-8951, Mon.-Fri. 8 am to 4 pm; and (3) and www.darp.noaa.gov/neregion/chalkpt.htm.

Dated: April 12, 2002.
Jamison S. Hawkins,
Deputy Assistant Administrator for Ocean Services and Coastal Zone Management.

[FR Doc. 02-12075 Filed 5-14-02; 8:45 am]

BILLING CODE 3510-JE-P